DEPARTMENT OF ENERGY

Environmental Management Site-Specific Advisory Board, Northern New Mexico

AGENCY: Department of Energy, DoE.

ACTION: Notice of open meeting.

SUMMARY: This notice announces a meeting of the Environmental Management Site-Specific Advisory Board (EM SSAB), Northern New Mexico. The Federal Advisory Committee Act (Pub. L. 92-463, 86 Stat. 770) requires that public notice of this meeting be announced in the Federal Register.

DATES: Wednesday, May 30, 2012; 1:00 p.m.-7:00 p.m.

ADDRESSES: The Lodge at Santa Fe, 750 North St. Francis Drive, Santa Fe, NM 87501.

FOR FURTHER INFORMATION CONTACT: Menice Santistevan, Northern New Mexico Citizens' Advisory Board (NNMCAB), 94 Cities of Gold Road, Santa Fe, NM 87506. Phone (505) 995-0393; Fax (505) 989-1752 or Email: msantistevan@doeal.gov.

SUPPLEMENTARY INFORMATION:

Purpose of the Board: The purpose of the Board is to make recommendations to DOE-EM and site management in the areas of environmental restoration, waste management, and related activities.

Tentative Agenda

1:00 p.m. Call to Order by Deputy Designated Federal Officer (DDFO), Ed Worth.

• Establishment of a Quorum: Roll Call and Excused Absences, Karen Erickson.

• Welcome and Introductions, Ralph Phelps, Chair.

• Approval of Agenda and March 28, 2012, Meeting Minutes.

1:15 p.m. Public Comment Period.

1:30 p.m. Old Business.

• Written Reports.

• Report on Spring EM SSAB Chairs' Meeting, Ralph Phelps and Carlos Valdez.

• Other Items.

2:00 p.m. New Business.

• Letter from EM SSAB Chairs to Dave Huizenga, Senior Advisor for EM.

• Appointment of Nominating Committee for September Elections.

• Other Items.

2:15 p.m. Items from the DDFO, Ed Worth.

• Update from DOE.

• Definition of One Contaminant.

• Other Items.

2:30 p.m. New Mexico Environment Department (NMED—State Regulator), John Kieling.

• Status of Consent Order.

• Overview of RCRA Permit.

• NMED Top Three Issues.

3:15 p.m. Break.

3:30 p.m. “State of the Laboratory,” Pete Maggiore and Michael Graham.

• Organizational Charts (Los Alamos Site Office, Los Alamos National Security and DOE-EM).

• EM Baseline.

• Progress in Clean-up.

• Framework Agreement.

• Top Three Issues.

• Future Activities.

4:30 p.m. Environmental Protection Agency (Federal Regulator), Rich Mayer.

• Federal Facilities Compliance Act.

• National Pollutant Discharge Elimination System (NPDES) Permit Program.

• Waste Isolation Pilot Plant (WIPP).

• Other EPA Regulatory Activities at Los Alamos National Laboratory.

5:15 p.m. Dinner Break.

6:00 p.m. Public Comment Period.

6:15 p.m. Update on “3706 TRU Waste Campaign,” Lee Bishop.

6:45 p.m. Wrap-up and Comments from Board Members, Ralph Phelps.

7:00 p.m. Adjourn, Ed Worth, DDFO.

Public Participation: The EM SSAB, Northern New Mexico, welcomes the attendance of the public at its advisory committee meetings and will make every effort to accommodate persons with physical disabilities or special needs. If you require special accommodations due to a disability, please contact Menice Santistevan at least seven days in advance of the meeting at the telephone number listed above. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Menice Santistevan at the address or phone number listed above. Minutes and other Board documents are on the Internet at: http://www.nnmcab.energy.gov/.

Issued at Washington, DC, on April 30, 2012.
LaTanya R. Butler,
Acting Deputy Committee Management Officer.

[FR Doc. 2012-10672 Filed 5-2-12; 8:45 am]

BILLING CODE 6405-01-P